DEPARTMENT OF HEALTH AND HUMAN SERVICES

DEPARTMENT OF AGRICULTURE

Announcement of Establishment of the 2005 Dietary Guidelines Advisory Committee and Solicitation of Nominations for Membership

AGENCIES: U.S. Department of Health and Human Services, Office of Public Health and Science; and U.S. Department of Agriculture, Food, Nutrition and Consumer Services (FNCS) and Research, Education and Economics (REE).

ACTION: Notice.

SUMMARY: The Department of Health and Human Services (HHS) and the Department of Agriculture (USDA) announce the establishment of a Dietary Guidelines Advisory Committee and invite nominations for the Committee.

DATES: Nominations must be submitted by close of business on June 16, 2003.

ADDRESSES: Nominations may be submitted by electronic mail to dietaryguidelines@osophs.dhhs.gov. Alternatively, nominations may be sent to the following address: Kathryn McMurry, M.S., HHS Office of Disease Prevention and Health Promotion, Office of Public Health and Science, Room 738-G, 200 Independence Ave., SW., Washington, DC 20201, (202) 690-7102 (telephone), 202-205-0463 (fax).

FOR FURTHER INFORMATION CONTACT: HHS Co-Executive Secretaries: Kathryn McMurry or Karyl Thomas (phone 202-690-7102), HHS Office of Disease Prevention and Health Promotion, Office of Public Health and Science, Room 738-G, 200 Independence Ave., SW., Washington, DC 20201. USDA Co-Executive Secretaries: Carole Davis (phone 703-305-7600), USDA Center for Nutrition Policy and Promotion, 3101 Park Center Drive, Room 1034, Alexandria, Virginia 22302, or Pamela Pehrsson (phone 301-504-0716), USDA Agricultural Research Service, Beltsville Agricultural Research Center-West, Building 005, Room 309A, Beltsville, Maryland 20705. Additional information is available on the Internet at http://www.health.gov/dietaryguidelines/.

SUPPLEMENTARY INFORMATION: Authority and Purpose: The Dietary Guidelines for Americans forms the basis of Federal food and nutrition education activities. Section 301 of the National Nutrition Monitoring and Related Research Act of 1990 (Pub. L. 101-445) requires the Secretaries of USDA and HHS to publish the Dietary Guidelines for Americans at least every five years. The Dietary Guidelines were first published by USDA and HHS in 1980, with revisions in 1985, 1990, 1995, and 2000. Beginning with the 1985 edition, HHS and USDA have appointed a Dietary Guidelines Advisory Committee of prominent experts in nutrition and health to assist in the preparation of the Dietary Guidelines.

Structure: The Committee will determine if revision of the 2000 edition of Nutrition and Your Health: Dietary Guidelines for Americans is warranted, based on thorough evaluation of recent scientific and applied literature and, if so, will proceed to develop recommendations for these revisions in a report to the Secretaries of Agriculture and Health and Human Services. The Committee will hold two-to three-day meetings, three to four times over the course of about a year. It is expected to begin meeting by Fall 2003 and prepare a report of its recommendations. Pursuant to the requirements of the Federal Advisory Committee Act, the meetings will be open to the public. Copies of the Report of the Dietary Guidelines Advisory Committee on the Dietary Guidelines for Americans, 2000 are available upon request from the HHS or USDA Co-Executive Secretaries listed above.

Prospective members of the Dietary Guidelines Advisory Committee should be knowledgeable of current scientific research in human nutrition and be respected and published experts in their fields. They should be familiar with the purpose, communication, and application of the Dietary Guidelines and have demonstrated interest in the public's health and well-being through their research and/or educational endeavors. Expertise is sought in specific specialty areas, including but not limited to, cardiovascular disease, cancer, pediatrics, gerontology, epidemiology, general medicine, overweight and obesity, physical activity, public health, nutrition biochemistry and physiology, nutrient bioavailability, nutrition education, and food safety and technology.

Nominations: The Departments will consider nominations for Committee membership of individuals qualified to carry out the above-mentioned tasks. A nomination should include, at a minimum, the following for each nominee: (1) A letter of nomination that clearly states the name and affiliation of the nominee, the basis for the nomination (i.e., specific attributes which qualify the nominee for service in this capacity), and a statement that the nominee is willing to serve as a member of the Committee; (2) the nominator's name, address and daytime telephone number, and the address telephone number, and electronic mail address of the individual being nominated; and (3) a copy of the nominee's curriculum vitae.

Equal opportunity practices, in line with HHS and USDA policies, will be followed in all membership appointments to the Committee. To ensure that recommendations of the Committee take into account the needs of the diverse groups served by HHS and USDA, membership shall include, to the extent practicable, individuals with demonstrated ability to represent minorities, women, and persons with disabilities.

Dated: April 28, 2003.
Richard H. Carmona,
Surgeon General and Acting Assistant Secretary for Health, U.S. Department of Health and Human Services.

Dated: May 2, 2003.
Eric M. Bost,
Under Secretary, Food, Nutrition and Consumer Services, U.S. Department of Agriculture.

Dated: May 8, 2003.
Joseph Jen,
Under Secretary, Research, Education, and Economics, U.S. Department of Agriculture.

[FR Doc. 03-12136 Filed 5-14-03; 8:45 am]

BILLING CODE 4150-32-P